DEPARTMENT OF ENERGY

Federal Energy Regulatory Commission

Combined Notice of Filings #1

Take notice that the Commission received the following exempt wholesale generator filings:

Docket Numbers: EG24-236-000.

Applicants: Lockhart CL ESS I, LLC.

Description: Lockhart CL ESS I, LLC submits Notice of Self-Certification of Exempt Wholesale Generator Status.

Filed Date: 7/30/24.

Accession Number: 20240730-5102.

Comment Date: 5 p.m. ET 8/20/24.

Docket Numbers: EG24-237-000.

Applicants: Lockhart CL ESS II, LLC.

Description: Lockhart CL ESS II, LLC submits Notice of Self-Certification of Exempt Wholesale Generator Status.

Filed Date: 7/30/24.

Accession Number: 20240730-5116.

Comment Date: 5 p.m. ET 8/20/24.

Docket Numbers: EG24-238-000.

Applicants: Mordor ES1 LLC.

Description: Mordor ES1 LLC submits Notice of Self-Certification of Exempt Wholesale Generator Status.

Filed Date: 7/30/24.

Accession Number: 20240730-5125.

Comment Date: 5 p.m. ET 8/20/24.

Docket Numbers: EG24-239-000.

Applicants: Mordor ES2 LLC.

Description: Mordor ES2 LLC submits Notice of Self-Certification of Exempt Wholesale Generator Status.

Filed Date: 7/30/24.

Accession Number: 20240730-5126.

Comment Date: 5 p.m. ET 8/20/24.

Docket Numbers: EG24-240-000.

Applicants: Gravel Pit Solar III, LLC.

Description: Gravel Pit Solar III, LLC submits Notice of Self-Certification of Exempt Wholesale Generator Status.

Filed Date: 7/30/24.

Accession Number: 20240730-5134.

Comment Date: 5 p.m. ET 8/20/24.

Docket Numbers: EG24-241-000.

Applicants: Gravel Pit Solar IV, LLC.

Description: Gravel Pit Solar IV, LLC submits Notice of Self-Certification of Exempt Wholesale Generator Status.

Filed Date: 7/30/24.

Accession Number: 20240730-5135.

Comment Date: 5 p.m. ET 8/20/24.

Docket Numbers: EG24-242-000.

Applicants: Gravel Pit Solar, LLC.

Description: Gravel Pit Solar, LLC submits Notice of Self-Certification of Exempt Wholesale Generator Status.

Filed Date: 7/30/24.

Accession Number: 20240730-5136.

Comment Date: 5 p.m. ET 8/20/24.

Docket Numbers: EG24-243-000.

Applicants: DESRI Gravel Pit Construction Borrower, L.L.C.

Description: DESRI Gravel Pit Construction Borrower, L.L.C. submits Notice of Self-Certification of Exempt Wholesale Generator Status.

Filed Date: 7/30/24.

Accession Number: 20240730-5137.

Comment Date: 5 p.m. ET 8/20/24.

Take notice that the Commission received the following electric rate filings:

Docket Numbers: ER10-3299-016; ER10-3286-017.

Applicants: Millennium Power Partners, L.P., New Athens Generating Company, LLC.

Description: Notice of Non-Material Change in Status of New Athens Generating Company, LLC et al.

Filed Date: 7/29/24.

Accession Number: 20240729-5190.

Comment Date: 5 p.m. ET 8/19/24.

Docket Numbers: ER18-2511-009.

Applicants: NorthWestern Corporation.

Description: Notice of Change in Status of NorthWestern Corporation.

Filed Date: 7/29/24.

Accession Number: 20240729-5192.

Comment Date: 5 p.m. ET 8/19/24.

Docket Numbers: ER24-2617-000.

Applicants: Escalante Solar, LLC.

Description: Compliance filing: Escalante Solar LLC Change in Status Filing to be effective 9/30/2024.

Filed Date: 7/30/24.

Accession Number: 20240730-5034.

Comment Date: 5 p.m. ET 8/20/24.

Docket Numbers: ER24-2618-000.

Applicants: AL Solar D, LLC.

Description: Compliance filing: AL Solar D LLC Change in Status Filing to be effective 9/30/2024.

Filed Date: 7/30/24.

Accession Number: 20240730-5036.

Comment Date: 5 p.m. ET 8/20/24.

Docket Numbers: ER24-2619-000.

Applicants: FL Solar 5, LLC.

Description: Compliance filing: FL Solar 5 LLC Change in Status Filing to be effective 9/30/2024.

Filed Date: 7/30/24.

Accession Number: 20240730-5037.

Comment Date: 5 p.m. ET 8/20/24.

Docket Numbers: ER24-2620-000.

Applicants: MS Solar 5, LLC.

Description: Compliance filing: MS Solar 5 LLC Change in Status Filing to be effective 9/30/2024.

Filed Date: 7/30/24.

Accession Number: 20240730-5038.

Comment Date: 5 p.m. ET 8/20/24.

Docket Numbers: ER24-2621-000.

Applicants: MS Solar 6, LLC.

Description: Compliance filing: MS Solar 6 Change in Status Filing to be effective 9/30/2024.

Filed Date: 7/30/24.

Accession Number: 20240730-5039.

Comment Date: 5 p.m. ET 8/20/24.

Docket Numbers: ER24-2622-000.

Applicants: Southwest Power Pool, Inc.

Description: § 205(d) Rate Filing: Revisions to Attachment J to Update the 125% Peak Load Criterion for Safe Harbor to be effective 9/30/2024.

Filed Date: 7/30/24.

Accession Number: 20240730-5050.

Comment Date: 5 p.m. ET 8/20/24.

Docket Numbers: ER24-2623-000.

Applicants: New England Power Pool Participants Committee.

Description: § 205(d) Rate Filing: Aug 2024 Membership Filing to be effective 8/1/2024.

Filed Date: 7/30/24.

Accession Number: 20240730-5108.

Comment Date: 5 p.m. ET 8/20/24.

Docket Numbers: ER24-2624-000.

Applicants: Mordor ES1 LLC.

Description: Baseline eTariff Filing: Application for Market Based Authority to be effective 7/31/2024.

Filed Date: 7/30/24.

Accession Number: 20240730-5109.

Comment Date: 5 p.m. ET 8/20/24.

Docket Numbers: ER24-2625-000.

Applicants: Mordor ES2 LLC.

Description: Baseline eTariff Filing: Application for Market Based Rate Authority to be effective 7/31/2024.

Filed Date: 7/30/24.

Accession Number: 20240730-5112.

Comment Date: 5 p.m. ET 8/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 30, 2024.
Debbie-Anne A. Reese,
Acting Secretary.

[FR Doc. 2024-17197 Filed 8-2-24; 8:45 am]

BILLING CODE 6717-01-P